ENVIRONMENTAL PROTECTION AGENCY

[FRL-7469-8]

Clean Water Act Section 303(d): Availability of List Decisions

AGENCY: Environmental Protection Agency.

ACTION: Notice of availability.

SUMMARY: This notice announces the availability of EPA decisions identifying water quality limited segments and associated pollutants in Arkansas to be listed pursuant to Clean Water Act section 303(d), and requests public comment. Section 303(d) requires that States submit and EPA approve or disapprove lists of waters for which existing technology-based pollution controls are not stringent enough to attain or maintain State water quality standards and for which total maximum daily loads (TMDLs) must be prepared.

On March 10, 2003, EPA partially approved and partially disapproved Arkansas' submittal. Specifically, EPA approved Arkansas' listing of 76 waters, associated pollutants, and associated priority rankings. EPA disapproved Arkansas' decisions not to list 52 water quality limited segments and associated pollutants. EPA identified these additional water bodies and pollutants along with priority rankings for inclusion on the 2002 section 303(d) list.

EPA is providing the public the opportunity to review its decisions to add waters and pollutants to Arkansas' 2002 section 303(d) list, as required by EPA's Public Participation regulations (40 CFR part 25). EPA will consider public comments in reaching its final decisions on the additional water bodies and pollutants identified for inclusion on Arkansas' final list.

DATES: Comments must be submitted in writing to EPA on or before April 18, 2003.

ADDRESSES: Comments on the decisions should be sent to Ellen Caldwell, Environmental Protection Specialist, Water Quality Protection Division, U.S. Environmental Protection Agency Region 6, 1445 Ross Ave., Dallas, TX 75202-2733, telephone (214) 665-7513, facsimile (214) 665-6490, or email: caldwell.ellen@epa.gov. Oral comments will not be considered. Copies of the documents which explain the rationale for EPA's decisions and a list of the 52 water quality limited segments for which EPA disapproved Arkansas' decision not to list can be obtained at EPA Region 6's Web site at www.epa.gov/earth1r6/6wq/artmdl.htm, or by writing or calling Ms. Caldwell at the above address. Underlying documents from the record for these decisions are available for public inspection at the above address. Please contact Ms. Caldwell to schedule an inspection.

FOR FURTHER INFORMATION CONTACT: Ellen Caldwell at (214) 665-7513.

SUPPLEMENTARY INFORMATION: Section 303(d) of the Clean Water Act (CWA) requires that each State identify those waters for which existing technology-based pollution controls are not stringent enough to attain or maintain State water quality standards. For those waters, States are required to establish TMDLs according to a priority ranking.

EPA's Water Quality Planning and Management regulations include requirements related to the implementation of section 303(d) of the CWA (40 CFR 130.7). The regulations require States to identify water quality limited waters still requiring TMDLs every two years. The list of waters still needing TMDLs must also include priority rankings and must identify the waters targeted for TMDL development during the next two years (40 CFR 130.7). On March 31, 2000, EPA promulgated a revision to this regulation that waived the requirement for States to submit section 303(d) lists in 2000 except in cases where a court order, consent decree, or settlement agreement required EPA to take action on a list in 2000 (65 FR 17170).

Consistent with EPA's regulations, Arkansas submitted to EPA its listing decisions under section 303(d) on September 5, 2002. On March 10, 2003, EPA approved Arkansas' listing of 76 waters and associated priority rankings. EPA disapproved Arkansas' decisions not to list 52 water quality limited segments and associated pollutants. EPA identified these additional waters and pollutants along with priority rankings for inclusion on the 2002 section 303(d) list. EPA solicits public comment on its identification of 52 additional waters and associated pollutants for inclusion on Arkansas' 2002 section 303(d) list.

Dated: March 10, 2003.
Miguel I Flores,
Director, Water Quality Protection Division, Region 6.

[FR Doc. 03-6575 Filed 3-18-03; 8:45 am]

BILLING CODE 6560-50-P